DEPARTMENT OF TRANSPORTATION

Pipeline and Hazardous Materials Safety Administration

49 CFR Parts 107, 171, 172, and 173

[Docket No. PHMSA-2025-0105 (HM-268Q)]

RIN 2137-AG19

Hazardous Materials: Allowing Fireworks Certification Agencies (FCAs) To Approve Professional Fireworks

AGENCY: Pipeline and Hazardous Materials Safety Administration (PHMSA), Department of Transportation (DOT).

ACTION: Notice of proposed rulemaking (NPRM).

SUMMARY: This NPRM proposes to expand the Fireworks Certification Agency's (FCA) authority to approve fireworks constructed to the APA 87-1A standard to include those fireworks constructed to the APA 87-1B and APA 87-1C standards. PHMSA is also proposing to revise its procedural regulations to facilitate new FCA authorizations. These proposed actions are intended to streamline PHMSA's fireworks approval process and provide the industry with regulatory flexibility.

DATES: Comments must be received on or before September 2, 2025.

ADDRESSES: You may submit comments identified by the Docket Number PHMSA-2025-0105 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2025-0105 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. You may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to T. Glenn Foster, Standards and Rulemaking Division, Pipeline and Hazardous Materials Safety Administration (PHMSA), 2nd Floor, 1200 New Jersey Avenue SE, Washington, DC 20590-0001, or by email at glenn.foster@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: T. Glenn Foster, Chief, Regulatory Review and Reinvention Branch, Standards and Rulemaking Division, 1200 New Jersey Avenue SE, Washington, DC 20590, or by email at glenn.foster@dot.gov.

I. General Discussion

The pyrotechnic industry relies on a global logistics supply chain comprised of primarily foreign fireworks manufacturers and domestic importers, retailers, distributors, and consumers. The Hazardous Materials Regulations (HMR) require that prior to being transported into, out of, and throughout the United States, all explosives are classed, approved, and issued a DOT classification approval number (i.e., EX number) by PHMSA, or—for consumer fireworks only—a DOT-approved Fireworks Certification Agency (FCA) Certification number (i.e., FC number). The EX number or FC number is a unique identifier indicating that a firework device has been classed and approved for transportation into, out of, and throughout the United States. The FCAs are currently only authorized to issue FC numbers for consumer fireworks under American Pyrotechnics Association's (APA) 87-1A standard.

In this NPRM, PHMSA is proposing to expand this authorization beyond consumer fireworks designed and manufactured in accordance with the APA 87-1A standard. Under this proposal, PHMSA and the FCAs would continue to apply the same standard in reviewing the design and materials of the fireworks under the APA 87-1 standard, which is divided into three components—APA 87-1A (Standard for the Construction, Classification, Approval, and Transportation of Consumer Fireworks), APA 87-1B (Standard for Construction, Classification, Approval, and Transportation of Display Fireworks), and APA 87-1C (Standard for the Construction, Classification, Approval, and Transportation of Entertainment Industry and Technical (EI&T) Pyrotechnics).¹ PHMSA is proposing to allow FCAs to certify compliance for each of the three components, rather than just for consumer fireworks (see APA 87-1A). This revision would allow fireworks manufacturers the flexibility to choose between paying FCAs for expedited review and certification, or relying on PHMSA's free, but sometimes longer, approval process.

¹ These standards are currently incorporated by reference in § 171.7 of the HMR.

PHMSA is also proposing to revise procedural regulations pertaining to new FCA authorizations. These proposed actions would help to streamline PHMSA's fireworks approval process and provide the regulated community with flexibility in seeking authorization for the transportation of display and technical pyrotechnics. To accommodate the expansion of fireworks approvals under all three parts of the APA 87-1 standard, PHMSA is proposing edits to Parts 107, 171, 172, and 173. In Part 107, PHMSA is proposing to revise § 107.402 to reference all three parts of APA 87-1. In Part 171, PHMSA is proposing to revise the definition for “FC number.” In Part 172, PHMSA is proposing to add a new Special Provision 200 to state that fireworks may be certified for transportation by a DOT-approved fireworks certification agency in accordance with the provisions of § 173.65. PHMSA is also proposing to revise three entries in the § 172.101 Hazardous Material Table (HMT) to reference the revised Special Provision 200 and proposing a conforming amendment to § 172.320 “Explosive hazardous materials.” Finally, in Part 173, PHMSA is proposing to revise § 173.64 “Exceptions for Division 1.3 and 1.4 fireworks” to reference provisions applicable to FCA's and revise § 173.65 “Exceptions for Division 1.4G consumer fireworks” to retitle “Exceptions for Division 1.3G or 1.4G fireworks certification by a Fireworks Certification Agency” and facilitate the approval of professional fireworks by FCAs. PHMSA does not expect the proposed revisions to have any adverse impact on safety.

II. Regulatory Analysis and Notices

A. Legal Authority

This proposed rule is published under the authority of the Secretary of Transportation set forth in the Federal Hazardous Materials Transportation Laws (49 U.S.C. 5101 et seq.) and delegated to the PHMSA Administrator pursuant to 49 CFR 1.97.

B. Executive Orders 12866; Regulatory Planning and Review

Executive Order (E.O.) 12866 (“Regulatory Planning and Review”),² as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

² 58 FR 51735 (Oct. 4, 1993).

E.O. 12866 and DOT Order 2100.6B also require that PHMSA submit “significant regulatory actions” to the Office of Information and Regulatory Affairs (OIRA) within the Executive Office of the President's Office of Management and Budget (OMB) for review. This proposed rule is a not significant regulatory action pursuant to E.O. 12866; it also has not designated this rule as a “major rule” as defined by the Congressional Review Act (5 U.S.C. 801 et seq.).

PHMSA has complied with E.O. 12866 as implemented by DOT Order 2100.6B and made a preliminarily determination that this proposed rule would result in cost savings by providing industry with more options for the expedited processing of display and technical fireworks. PHMSA expects those cost savings would also result in reduced costs for the public to whom those entities generally transfer a portion of their compliance costs.

C. Executive Orders 14192 and 14219

This proposed rule, if finalized as proposed, is expected to be an E.O. 14192 deregulatory action.³ PHMSA seeks data that would be helpful to generate an estimate of the cost savings from this rule. PHMSA's initial estimates are that the total costs of the rule on the regulated community would be less than zero. Nor does this proposed rule does implicate any of the factors identified in section 2(a) of E.O. 14219 indicative of a regulation that is “unlawful . . . [or] that undermine[s] the national interest.” ⁴

³ 90 FR 9065 (Jan. 31, 2025).

⁴ 90 FR 10583 (Feb. 19, 2025).

D. Energy-Related Executive Orders 13211, 14154, and 14156

The President has declared in E.O. 14156 (“Declaring a National Energy Emergency”) ⁵ a national emergency to address the United States's inadequate energy development production, transportation, refining, and generation capacity. Similarly, E.O. 14154 (“Unleashing American Energy”) ⁶ asserts a Federal policy to unleash American energy by ensuing access to abundant supplies of reliable, affordable energy from (inter alia) the removal of “undue burden[s]” on the identification, development, or use of domestic energy resources such as PHMSA-jurisdictional firework manufacturers and FCAs. PHMSA preliminarily finds this proposed rule is consistent with each of E.O. 14156 and E.O. 14154 because it imposes no new burdens on the transportation of energy or energy-related products.

⁵ 90 FR 8353 (Jan. 29, 2025).

⁶ 90 FR 8353 (Jan. 29, 2025).

This proposed rule is not a “significant energy action” under E.O. 13211 (“Actions Concerning Regulations That Significantly Affect Energy Supply, Distribution, or Use”),⁷ which requires Federal agencies to prepare a Statement of Energy Effects for any “significant energy action.” Because this proposed rule is not a significant action under E.O. 12866, it would not have a significant adverse effect on supply, distribution, or energy use, as further discussed in the RIA; OIRA has therefore not designated this proposed rule as a significant energy action.

⁷ 66 FR 28355 (May 22, 2001).

E. Executive Order 13132: Federalism

PHMSA analyzed this proposed rule in accordance with the principles and criteria contained in E.O. 13132 (“Federalism”) ⁸ and the Presidential Memorandum (“Preemption”) published in the Federal Register on May 22, 2009.⁹ E.O. 13132 requires agencies to assure meaningful and timely input by State and local officials in the development of regulatory policies that may have “substantial direct effects on the States, on the relationship between the National Government and the States, or on the distribution of power and responsibilities among the various levels of government.” The Federal Hazardous Materials Transportation Laws contain an express preemption provision at 49 U.S.C. 5125(b) that preempts state, local, and tribal requirements on certain covered subjects, unless the non-federal requirements are “substantively the same” as the federal requirements, including the following:

⁸ 64 FR 43255 (Aug. 10, 1999).

⁹ 74 FR 24693 (May 22, 2009).

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This proposed rule addresses covered subject items paragraph (1) above and would preempt state, local, and Tribal requirements not meeting the “substantively the same” standard. While the proposed rule may (when finalized) operate to preempt some State requirements, it would not impose any regulation that has substantial direct effects on the States, the relationship between the National Government and the States, or the distribution of power and responsibilities among the various levels of government. The preemptive effect of the regulatory amendments in this proposed rule is limited to the minimum level necessary to achieve the objectives of the Federal Hazardous Materials Transportation Laws. Therefore, the consultation and funding requirements of E.O. 13132 do not apply.

F. Regulatory Flexibility Act

The Regulatory Flexibility Act (5 U.S.C. 601 et seq.) requires Federal agencies to conduct an Initial Regulatory Flexibility Analysis (IRFA) for a proposed rule subject to notice-and-comment rulemaking under the APA unless the agency head certifies that the proposed rule in the rulemaking would not have a significant economic impact on a substantial number of small entities. E.O. 13272 (“Proper Consideration of Small Entities in Agency Rulemaking”) ¹⁰ obliges agencies to establish procedures promoting compliance with the Regulatory Flexibility Act. DOT posts its implementing guidance on a dedicated web page.¹¹ This proposed rule was developed in accordance with E.O. 13272 and DOT implementing guidance to ensure compliance with the Regulatory Flexibility Act. The proposed rule is expected to reduce burdens. Therefore, PHMSA certifies the proposed rule does not have a significant impact on a substantial number of small entities.

¹⁰ 67 FR 53461 (Aug. 16, 2002).

¹¹ DOT, “Rulemaking Requirements Related to Small Entities,” https://www.transportation.gov/regulations/rulemaking-requirements-concerning-small-entities (last accessed Sept 3, 2024).

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This proposed rule does not impose unfunded mandates under UMRA. PHMSA does not expect the proposed rule would result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking would not adversely affect safety and therefore would not significantly affect the quality of the human and natural environment. The public is invited to comment on the impact of the proposed action.

I. Executive Order 13175

PHMSA analyzed this proposed rule according to the principles and criteria in E.O. 13175 (“Consultation and Coordination with Indian Tribal Governments”) ¹² and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹² 65 FR 67249 (Nov. 9, 2000).

PHMSA assessed the impact of the proposed rule and determined that it would not significantly or uniquely affect Tribal communities or Indian Tribal governments. The rulemaking's regulatory amendments have a broad, national scope; therefore, this proposed rule would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking would not create, amend, or rescind any existing information collections.

K. Executive Order 13609 and International Trade Analysis

E.O. 13609 (“Promoting International Regulatory Cooperation”) ¹³ requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹³ 77 FR 26413 (May 4, 2012).

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the proposed rule and has determined that its regulatory amendments would not cause unnecessary obstacles to foreign trade.

L. Cybersecurity and Executive Order 14028

E.O. 14028 (“Improving the Nation's Cybersecurity”) ¹⁴ directed the Federal government to improve its efforts to identify, deter, and respond to “persistent and increasingly sophisticated malicious cyber campaigns.” PHMSA has considered the effects of the proposed rule and has determined that its regulatory amendments would not materially affect the cybersecurity risk profile for affected entities.

¹⁴ 86 FR 26633 (May 17, 2021).

List of Subjects

49 CFR Part 107

Administrative practice and procedure, Hazardous materials transportation, Packaging and containers, Penalties, Reporting and recordkeeping requirements.

49 CFR Part 171

Exports, Hazardous materials transportation, Hazardous waste, Imports, Incorporation by reference, Reporting and recordkeeping requirements.

49 CFR Part 172

Education, Hazardous materials transportation, Hazardous waste, Incorporation by reference, Labeling, Markings, Packaging and containers, Reporting and recordkeeping requirements.

49 CFR Part 173

Hazardous materials transportation, Incorporation by reference, Packaging and containers, Radioactive materials, Reporting and recordkeeping requirements.

In consideration of the foregoing, PHMSA proposes to amend 49 CFR chapter I as follows:

PART 107—HAZARDOUS MATERIALS PROGRAM PROCEDURES

1. The authority citation for part 107 continues to read as follows:

Authority: 49 U.S.C. 5151-5128, 44701; Pub. L. 101-410 Section 4; Pub. L. 104-121 Sections 212-213; Pub. L. 104-134 Section 31001; Pub. L. 114-74 Section 701 (28 U.S.C. 2461 note); 49 CFR 1.81 and 1.97; 33 U.S.C. 1321.

2. In § 107.402, revise paragraph (d) to read as follows:

§ 107.402 Application for designation as a certification agency.

* * * * *

(d) Fireworks Certification Agency. Prior to reviewing, and certifying Division 1.4G consumer fireworks (UN0336) for compliance with the APA 87-1A standard, excluding appendices II through VI, or Division 1.3G display fireworks (UN0335) for compliance with the 87-1B standard, or 1.4G entertainment industry and technical pyrotechnics (UN0101 or UN0431) for compliance with the 87-1C standard, as appropriate (IBR, see § 171.7 of this chapter) as specified in part 173 of this chapter, a person must apply to, and be approved by, the Associate Administrator to act as a Fireworks Certification Agency.

(1) Fireworks Certification Agency applicant requirements. The Fireworks Certification Agency applicant must—

(i) Be a U.S. resident, or for a non-U.S. resident, have a designated U.S. agent representative as specified in § 105.40 of this subchapter;

(ii) Employ personnel with work experience in manufacturing or testing of fireworks or explosives; or a combination of work experience in manufacturing or testing of fireworks or explosives and a degree in the physical sciences or engineering from an accredited university;

(iii) Have the ability to:

(A) Review design drawings, and applications to certify that they are in accordance with the APA Standard 87-1; and

(B) Verify that the applicant has certified the thermal stability test procedures and results.

(iv) Must be independent of and not owned by any consumer fireworks manufacturer, distributor, import or export company, or proprietorship.

(2) Fireworks Certification Agency application submittal requirements. In addition to the requirements of paragraphs (b) and (d)(1) of this section, the Fireworks Certification Agency application must include—

(i) Name, address, and country of each facility where Division 1.3G or 1.4G fireworks applications are reviewed and certified;

(ii) Which component of the APA Standard 87-1, A, B or C under which they want to be approved to certify fireworks.

(iii) A detailed description of the qualifications of each individual the applicant proposes to employ to review, and certify that the requirements specified by part 173 of this chapter and the APA Standard 87-1 have been met;

(iv) Written operating procedures to be used by the Fireworks Certification Agency to review and certify that a Division 1.3G or 1.4G fireworks application meets the requirements specified in the APA Standard 87-1;

(v) Name, address, and principal business activity of each person having any direct or indirect interest in the applicant greater than three percent and any direct or indirect ownership interest in each subsidiary or division of the applicant; and

(vi) A statement that the applicant will perform its functions independent of the manufacturers, transporters, importers, and owners of the fireworks.

* * * * *

PART 171—GENERAL INFORMATION, REGULATIONS, AND DEFINITIONS

3. The authority citation for part 171 continues to read as follows:

Authority: 49 U.S.C. 5101-5128, 44701; Pub. L. 101-410 section 4; Pub. L. 104-134, section 31001; Pub. L. 114-74 section 701 (28 U.S.C. 2461 note); 49 CFR 1.81 and 1.97.

4. In § 171.8, revise the definition for “FC number” to read as follows:

§ 171.8 Definitions and abbreviations.

* * * * *

FC number means a number preceded by the prefix “FC”, assigned by a Fireworks Certification Agency to a firework device that has been certified under the provisions of § 173.65 of this subchapter.

* * * * *

PART 172—HAZARDOUS MATERIALS TABLE, SPECIAL PROVISIONS, HAZARDOUS MATERIALS COMMUNICATIONS, EMERGENCY RESPONSE INFORMATION, TRAINING REQUIREMENTS, AND SECURITY PLANS

5. The authority citation for part 172 continues to read as follows:

Authority: 49 U.S.C. 5101-5128, 44701; 49 CFR 1.81, 1.96, and 1.97.

6. In § 172.101, the Hazardous Materials Table is amended by revising entries under “[REVISE]” in the appropriate alphabetical sequence to read as follows:

§ 172.101 Hazardous Materials Table

Symbols | Hazardous materials descriptions and proper shipping names | Hazard class or division | Identification Nos. | PG | Label codes | Special provisions (§ 172.102) | (8) Packaging (§ 173.***): Exceptions | (8) Packaging (§ 173.***): Non-bulk | (8) Packaging (§ 173.***): Bulk | (9) Quantity limitations (see §§ 173.27 and 175.75): Passenger aircraft/rail | (9) Quantity limitations (see §§ 173.27 and 175.75): Cargo air- craft only | (10) Vessel stowage: Location | (10) Vessel stowage: Other
(1) | (2) | (3) | (4) | (5) | (6) | (7) | (8A) | (8B) | (8C) | (9A) | (9B) | (10A) | (10B)
| [REVISE]
|  | * |  | * |  | * |  | * |  | * |  | * | *
| Articles, pyrotechnic for technical purposes | 1.3G | UN0430 |  | 1.3G | 200 | None | 62 | None | Forbidden | Forbidden | 03 | 25
| Articles, pyrotechnic for technical purposes | 1.4G | UN0431 |  | 1.4G | 200, 381 | None | 62 | None | Forbidden | 75kg | 02 | 25
|  | * |  | * |  | * |  | * |  | * |  | * | *
| Fireworks | 1.3G | UN0335 |  | 1.3G | 108, 200 | None | 62 | None | Forbidden | Forbidden | 03 | 25
|  | * |  | * |  | * |  | * |  | * |  | * | *

* * * * *

7. In § 172.102, revise paragraph (c)(1) special provision 200 to read as follows:

§ 172.102 Special provisions.

* * * * *

(c) * * *

(1) * * *

200 Fireworks may be certified for transportation by a DOT-approved Fireworks Certification Agency in accordance with the provisions of § 173.65 of this subchapter.

* * * * *

8. In § 172.320, revise paragraph (b)(2) to read as follows:

§ 172.320 Explosive hazardous materials.

* * * * *

(b) * * *

(2) For fireworks reviewed by a Fireworks Certification Agency approved in accordance with 49 CFR part 107 subpart E and certified in accordance with § 173.65, with the FC number assigned by a DOT-approved Fireworks Certification Agency.

* * * * *

PART 173—SHIPPERS—GENERAL REQUIREMENTS FOR SHIPMENTS AND PACKAGINGS

9. The authority citation for part 173 continues to read as follows:

Authority: 49 U.S.C. 5101-5128, 44701; 49 CFR 1.81, 1.96, and 1.97.

10. In § 173.64, revise paragraph (a) introductory text to read as follows:

§ 173.64 Exceptions for Division 1.3 and 1.4 fireworks.

(a) Notwithstanding the requirements of § 173.56(b), Division 1.3 and 1.4 fireworks (see § 173.65 for provisions applicable to Fireworks Certification Agencies) may be classed and approved by the Associate Administrator without prior examination and offered for transportation if the following conditions are met:

* * * * *

11. Revise § 173.65 including the section name to read as follows:

§ 173.65 Exceptions for Division 1.3G or 1.4G fireworks certification by a Fireworks Certification Agency.

(a) Notwithstanding the requirements of §§ 173.56(b), 173.56(f), 173.56(i), and 173.64, Division 1.3G or 1.4G fireworks may be offered for transportation provided the following conditions are met:

(1) The fireworks are manufactured in accordance with the applicable requirements in APA 87-1A, APA 87-1B, or APA 87-1C, as appropriate (IBR, see § 171.7 of this subchapter);

(2) The device must pass a thermal stability test. The test must be performed by maintaining the device, or a representative prototype of the device, at a temperature of 75 °C (167 °F) for 48 consecutive hours. When a device contains more than one component, those components that could be in physical contact with each other in the finished device must be placed in contact with each other during the thermal stability test;

(3) The manufacturer of the firework applies in writing to a DOT-approved Fireworks Certification Agency, and is notified in writing by the DOT-approved Fireworks Certification Agency that the firework has been:

(i) Certified that it complies with APA 87-1A, APA 87-1B, or APA 87-1C, as appropriate, and meets the requirements of this section; and

(ii) Assigned an FC number.

(4) The manufacturer's application must be complete and include:

(i) Detailed diagram of the device;

(ii) Complete list of the chemical compositions, formulations and quantities used in the device;

(iii) Results of the thermal stability test; and

(iv) Signed certification declaring that the device for which certification is requested conforms to the APA 87-1A, APA 87-1B, or APA 87-1C, as appropriate, that the descriptions and technical information contained in the application are complete and accurate, and that no duplicate applications have been submitted to PHMSA. If the application is denied, the Fireworks Certification Agency must notify the manufacturer in writing of the reasons for the denial. As detailed in the DOT-approval issued to the Fireworks Certification Agency, following the issuance of a denial from a Fireworks Certification Agency, a manufacturer may seek reconsideration from the Fireworks Certification Agency, or may appeal the decision of the Fireworks Certification Agency to the PHMSA Administrator.

(b) Recordkeeping requirements. Following the certification of each firework as permitted by paragraph (a) of this section, the manufacturer and importer must maintain a paper record or an electronic image of the certificate, demonstrating compliance with this section. Each record must clearly provide the unique identifier assigned to the firework device and the Fireworks Certification Agency that certified the device. The record must be accessible at or through its principal place of business and be made available, upon request, to an authorized official of a Federal, State, or local government agency at a reasonable time and location. Copies of certification records must be maintained by each importer, manufacturer, or a foreign manufacturer's U.S. agent, for five (5) years after the device is imported. The certification record must be made available to a representative of PHMSA upon request.

* * * * *

Issued in Washington, DC, on June 26, 2025, under the authority delegated in 49 CFR 1.97.
Benjamin D. Kochman,
Acting Administrator.

[FR Doc. 2025-12082 Filed 6-27-25; 4:15 pm]

BILLING CODE 4910-60-P